DEPARTMENT OF TRANSPORTATION

National Highway Traffic Safety Administration

[Docket No. NHTSA-2004-19217; Notice 2]

Mitsubishi Motor Sales Caribbean, Inc., Ruling on Petition for Decision of Inconsequential Noncompliance

Mitsubishi Motor Sales Caribbean, Inc. (MMSC) has determined that certain vehicles that it imported and distributed in 1997 through 2004 do not comply with S4.5.1(b)(2)(ii), (c)(1) and (e)(1)(ii) of 49 CFR 571.208, Federal Motor Vehicle Safety Standard (FMVSS) No. 208, “Occupant Crash Protection.” Pursuant to 49 U.S.C. 30118(d) and 30120(h), MMSC has petitioned for an exemption from the notification and remedy requirements of 49 U.S.C. chapter 301 on the basis that this noncompliance is inconsequential to motor vehicle safety. Notice of receipt of MMSC's petition was published, with a 30 day comment period, on October 8, 2004, in the Federal Register (69 FR 60458). NHTSA received no comments.

A total of approximately 85,065 model year 1998 to 2005 Mitsubishi vehicles are affected. Approximately 70,592 Monteros, Nativas, Diamantes, Mirages, Lancers, and Outlanders covering model years from 1998 to 2005 do not comply with S4.5.1(b)(2)(ii), “Sun visor air bag warning label.” Approximately 10,761 Nativas covering model years 2000-2004 do not comply with S4.5.1(c)(1), “Air bag alert label.” Approximately 85,065 Monteros, Nativas, Diamantes, Mirages, Lancers, 3000 GTs, Outlanders, Galants, Eclipses, Eclipse Spyders, and Endeavors covering model years 1998-2005 do not comply with S4.5.1(e)(1)(ii), “Label on the dashboard.”

The relevant requirements of FMVSS No. 208, S4.5.1, “Labeling and owner's manual information,” are as follows: “(b)(2)(ii) The message area [of the permanent sun visor air bag warning label] * * * shall be no less than 30 cm². * * * (c)(1) The message area [of the permanent sun visor air bag alert label] * * * shall be no less than 20 square cm. * * * (e)(1)(ii) The message area [of the temporary label on the dashboard] * * * shall be no less than 30 cm².”

On the affected vehicles, the actual measurement of the English message area for the sun visor air bag warning label is 27 cm² rather than the required minimum of 30 cm², for the sun visor alert label is 12 cm² rather than the required minimum of 20 cm², and for the dash label is 19 cm² rather than the required minimum of 30 cm². MMSC explains that these noncompliances resulted from reducing the English message areas when the respective Spanish translations were added.

MMSC believes that the noncompliance is inconsequential to motor vehicle safety and that no corrective action is warranted. In support of its petition, MMSC states the following:

The likelihood consumers will perceive the presence of the labels is enhanced since the overall sizes of the bilingual labels are larger than the English-only labels while the understandability performance of the warnings is enhanced since the message reaches a wider audience than an English-only version.

The legibility of the labels at the required distance (i.e., from all front seating positions) is not degraded since the font size, font color, and letter spacing remain the same as our English-only versions that meet the message area requirements.

The labels meet all other requirements in every respect including heading content, heading color, message content, message area color, message text color, alert symbol content, and alert symbol color. * * *

Mitsubishi believes the percentage of vehicles actually fitted today with the non-compliant temporary dash labels is for all intents and purposes zero, considering in all likelihood they have already been removed by customers after purchase.

MMSC has received no customer complaints related to the bilingual labels.

NHTSA has reviewed the petitioner's arguments. The air bag warning labels are the agency's primary method for obtaining the owner's attention and conveying important safety information. The agency believes that these air bag warning labels are necessary to make owners aware of the safest way to use their air bag equipped vehicles. In NHTSA's occupant crash protection rule published on May 12, 2000 (65 FR 30680), the agency stated “* * * as with the current labels, manufacturers may provide translations of the required English language message as long as all the requirements for the English label are met, including size” (65 FR 30722) (emphasis added). Thus, the agency reconfirmed the importance of the message area requirement in the advanced air bag final rule.

The intent of FMVSS No. 208 is that the warning or alert message fill the message area (see 61 FR 60206 at 60210 (November 27, 1996)). Not filling the message area would make purposeless the specification. The label on the dashboard has a message area that is 37 percent below the required 30 cm². The air bag alert label on the sun visor has a message area that is 40 percent below the required 20 cm². These are significant reductions in message area.

Having reductions of this magnitude is equivalent to not filling the message area. The agency has provided figures in FMVSS No. 208 that show the message text covers the majority of the message area.

MMSC hypothesized that there is enhanced label perception by the consumer because the size of the bilingual label is larger than the English-only label. The bilingual label is addressed in the Federal Register notice quoted above. In addition, the message area requirements in FMVSS No. 208 enhance the effectiveness of labels by not only impacting the label size, but also the appearance of the text message. If the agency were only concerned with the size of the label, we would have limited our requirement to label size.

Second, it states that the bilingual label will reach a larger audience. This is not relevant to the message area requirement. The label can still be bilingual but the minimum English message area is specified in the regulatory text. Had the Agency required a bilingual label, it would have been logical to specify the same 30 cm² message area for both languages.

Third, it states the font size, font color, and letter spacing remains the same as the English-only complying version. The font size and letter spacing are not covered by regulation and thus are not relevant to the message area requirement. The black font color is required, but it is not relevant to the message area requirement. NHTSA intended the message area to be filled. Therefore, the font and spacing should be chosen with that as a consideration along with owner ease of use.

Fourth, it states that the labels meet all other label requirements. This is not relevant to the message area requirement.

Fifth, it believes dash labels have already been removed. Again this is not relevant to the message area requirement.

Finally, it states it has received no customer complaints. NHTSA is not surprised that there are no customer complaints since the labels do not affect the operation of the vehicle.

The sun visor alert label is a permanent label that will still be on the vehicles when they enter the used vehicle market. New owners, as well as the current owners, should be afforded the opportunity to have the air bag warning labels in the minimum format specified by FMVSS No. 208, which was deemed to be the most effective through focus group testing.

The label on the dashboard, although temporary on a new vehicle, is important to NHTSA. Since all the labels had insufficient message area, a remedy for this label will help reinforce the air bag message for the owners.

In consideration of the foregoing, NHTSA has decided that the petitioner has not met its burden of persuasion that the noncompliance it describes is inconsequential to safety for the sun visor air bag alert label or for the label on the dashboard. Accordingly, in regard to these two labels, its petition is hereby denied. MMSC must now fulfill its obligation to notify and remedy under 49 U.S.C. 30118(d) and 30120(h).

The sun visor air bag warning label has a message area that is 10 percent below the required 30 cm². Even though the label minimum format is not met, NHTSA believes in this case that the owner and future owners will have a message size that is acceptable. Since this label contains the actual owner guidance, NHTSA prefers to keep the current label intact rather than require a 10 percent increase in message area. In addition, the label on the dashboard will have to be remedied and it contains the same information as the sun visor air bag warning label. NHTSA expects the remedy will have the effect of reemphasizing the warning on the visor label.

In consideration of the foregoing, NHTSA has decided that the petitioner has met its burden of persuasion that the sun visor air bag warning labeling noncompliance portion of its petition is inconsequential to motor vehicle safety. Accordingly, we grant its petition on this issue.

Authority: 49 U.S.C. 30118(d) and 30120(h); delegations of authority at CFR 1.50 and 501.8.

Issued on: January 19, 2005.
Claude H. Harris,
Director, Office of Vehicle Safety Compliance.

[FR Doc. 05-1432 Filed 1-25-05; 8:45 am]

BILLING CODE 4910-59-P